DEPARTMENT OF HOMELAND SECURITY

Federal Emergency Management Agency

44 CFR Part 67

[Docket No. FEMA-D-7562]

Proposed Flood Elevation Determinations

AGENCY: Federal Emergency Management Agency (FEMA), Emergency Preparedness and Response Directorate, Department of Homeland Security.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Mary Jean Pajak, P.E., FEMA, 500 C Street SW., Washington, DC 20472, (202) 646-2831.

SUPPLEMENTARY INFORMATION: The Federal Emergency Management Agency (FEMA or Agency) proposes to make determinations of base flood elevations and modified base flood elevations for each community listed below, in accordance with section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Mitigation Division Director of the Emergency Preparedness and Response Directorate certifies that this proposed rule is exempt from the requirements of the Regulatory Flexibility Act because proposed or modified base flood elevations are required by the Flood Disaster Protection Act of 1973, 42 U.S.C. 4105, and are required to establish and maintain community eligibility in the NFIP. As a result, a regulatory flexibility analysis has not been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, flood insurance, reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | # Depth in feet above ground. * Elevation in feet (NGVD) • Elevation in feet (NAVD): Existing | # Depth in feet above ground. * Elevation in feet (NGVD) • Elevation in feet (NAVD): Modified | Communities affected
FLORIDA
Leon County
Alford Arm Tributary | Approximately 500 feet downstream of State Route 146 | *65 | *66 | Leon County (Unincorporated Areas), City of Tallahassee.
| At downstream side of Thomasville Road | *93 | *92
Northeast Drainage Ditch | Approximately 100 feet upstream of Weems Road | *53 | *52 | City of Tallahassee.
| Approximately 1 mile upstream of Lonnbladh Road | *125 | *126
McCord Park Pond Drainage Ditch | At the confluence with Northeast Drainage Ditch | *70 | *69 | City of Tallahassee.
| Approximately 1,350 feet upstream of the confluence with Northeast Drainage Ditch | *70 | *69
Park Avenue Ditch | At the confluence with Northeast Drainage Ditch | *56 | *59 | City of Tallahassee.
| At the CSX Transportation | *64 | *66
Royal Oaks Creek | At the confluence with Lake Kinsale | *84 | *81 | City of Tallahassee.
| At a point approximately 680 feet upstream of Foxcroft Drive | *87 | *90
Goose Pond Tributary | At the confluence with Goose Pond | *74 | *76 | City of Tallahassee.
| Approximately 0.80 mile upstream of the confluence with Goose Pond | None | *120
Northeast Drainage Ditch Tributary 1 | At the confluence with Northeast Drainage Ditch | *89 | *91 | City of Tallahassee.
| At the downstream side of Oleson Road | None | *137
Northeast Drainage Ditch Tributary 2 | At the confluence with Northeast Drainage Ditch | *57 | *60 | City of Tallahassee.
| Approximately 250 feet upstream of Brewster Drive | None | *110
CMC Pond | Entire shoreline within community | None | *103 | City of Tallahassee.
Phillips Road Pond | Entire shoreline within community | None | *95 | City of Tallahassee.
Harriman Circle Pond | Entire shoreline within community | None | *86 | City of Tallahassee.
Ponding Area 282-1 | Entire shoreline within community | None | *136 | City of Tallahassee.
Ponding Area 301-1 | Entire shoreline within community | None | *144 | Leon County (Unincorporated Areas), City of Tallahassee.
Ponding Area 301-2 | Entire shoreline within community | None | *141 | City of Tallahassee.
Ponding Area 301-3 | Entire shoreline within community | None | *143 | City of Tallahassee.
Ponding Area 301-4 | Entire shoreline within community | None | *161 | Leon County (Unincorporated Areas), City of Tallahassee.
Ponding Area 301-5 | Entire shoreline within community | None | *180 | City of Tallahassee.
Ponding Area 301-6 | Entire shoreline within community | None | *85 | City of Tallahassee.
Ponding Area 301-7 | Entire shoreline within community | None | *109 | City of Tallahassee.
Ponding Area 303-1 | Entire shoreline within community | None | *91 | City of Tallahassee.
Ponding Area 303-2 | Entire shoreline within community | None | *110 | City of Tallahassee.
Northeast Drainage Ditch Overland Flow | At Lonnbladh Road | *94 | *96 | City of Tallahassee.
| Approximately 4,150 feet upstream of Lonnbladh Road | *119 | *122
Leon County (Unincorporated Areas)
Maps available for inspection at the Leon County Courthouse, 301 South Monroe Street, Tallahassee, Florida.
Send comments to Mr. Parwez Alam, Leon County Administrator, 301 South Monroe Street, Tallahassee, Florida 32301.
City of Tallahassee
Maps available for inspection at the Tallahassee City Hall, 300 South Adams Street, Tallahassee, Florida.
Send comments to The Honorable John Marks, Mayor of the City of Tallahassee, City Hall, 300 South Adams Street, Tallahassee, Florida 32301-1731.
MINNESOTA
Hennepin County
North Branch Bassett Creek | Approximately 35 feet upstream of the confluence with Bassett Creek | *849 | *850 | City of Crystal, City of New Hope.
| At Louisiana Avenue | *879 | *883
Bassett Creek | At conduit entrance approximately 1,500 feet downstream of Irving Avenue | *811 | *807 | Cities of Golden Valley, Medicine Lake, Minneapolis, and Plymouth.
| Approximately 100 feet downstream of South Shore Drive | *888 | *889
Twin Lakes | Entire shoreline within the county | None | *856 | Cities of Brooklyn Center, Crystal and Robbinsdale.
Ryan Lake | Entire shoreline within the county | None | *856 | Cities of Brooklyn Center, Minneapolis, and Robbinsdale.
Lake Minnetonka | Entire shoreline within the county | None | *931 | Cities of Deephaven, Greenwood, and Minnetrista.
Gleason Creek | Approximately 450 feet downstream of the confluence of Gleason Lake | None | *945 | City of Plymouth.
| Approximately 175 feet downstream of the confluence of Gleason Lake | None | *945
Unnamed Ponding Area Southwest of Hadley Lake | Entire shoreline within the county | None | *952 | City of Wayzata.
Pioneer Creek | Approximately 0.6 mile upstream of County Highway 90 | None | *958 | City of Maple Plain.
| Approximately 400 feet downstream of Pagenkopf Road | None | *958
Lake Sarah | Entire shoreline within the county | None | *981 | City of Greenfield.
North Fork Rush Creek | Approximately 400 feet upstream of the downstream crossing of 109th Avenue North (County Route 117) | None | *926 | Township of Hassan.
| Approximately 75 feet downstream of the upstream crossing of 109th Avenue North (County Route 117) | None | *927 |
Crystal Bay | Entire shoreline within the county | None | *931 | City of Minnetonka Beach.
Lafayette Bay | Entire shoreline within the county | None | *931 | City of Minnetonka Beach.
Halstead Bay | Entire shoreline within the county | None | *931 | City of Minnetrista.
Dutch Lake | Entire shoreline within the county | None | *940 | City of Minnetrista.
Jennings Bay | Entire shoreline within the county | None | *931 | City of Minnetrista.
Six Mile Creek | At the confluence with Halstead Bay | None | *931 | City of Minnetrista.
| Approximately 200 feet upstream of Highland Road | None | *931
City of Brooklyn Center
Maps available for inspection at the Brooklyn Center City Hall, 6301 Shingle Creek Parkway, Brooklyn Center, Minnesota.
Send comments to the Honorable Myrna Kragness, Mayor of the City of Brooklyn Center, 6301 Shingle Creek Parkway, Brooklyn Center, Minnesota 55430.
City of Crystal
Maps available for inspection at the Crystal City Hall, 4141 Douglas Drive, Crystal, Minnesota.
Send comments to the Honorable Peter Meintsma, Mayor of the City of Crystal, 4141 Douglas Drive, Crystal, Minnesota 55422.
City of Deephaven
Maps available for inspection at the Deephaven City Hall, 20225 Cottagewood Road, Deephaven, Minnesota.
Send comments to the Honorable Tom Anderson, Mayor of the City of Deephaven, 20225 Cottagewood Road, Deephaven, Minnesota 55331.
City of Golden Valley
Maps available for inspection at the Golden Valley City Hall, 7800 Golden Valley Road, Golden Valley, Minnesota.
Send comments to the Honorable Linda Loomis, Mayor of the City of Golden Valley, 7800 Golden Valley Road, Golden Valley, Minnesota 55427.
City of Greenfield
Maps available for inspection at the Greenfield City Hall, 6390 Town Hall Drive, Loretto, Minnesota.
Send comments to the Honorable Thomas Swanson, Mayor of the City of Greenfield, 6390 Town Hall Drive, Loretto, Minnesota 55357.
City of Greenwood
Maps available for inspection at the Greenwood City Hall, Zoning Office, 20225 Cottagewood Road, Deephaven, Minnesota.
Send comments to the Honorable Terry Nagel, Mayor of the City of Greenwood, 20225 Cottagewood Road, Deephaven, Minnesota.
Township of Hassan
Maps available for inspection at the Hassan Township Hall, 25000 Hassan Parkway, Rogers, Minnesota.
Send comments to Mr. Clark Linn, Chairman of the Township of Hassan Board of Supervisors, 25000 Hassan Parkway, Rogers, Minnesota 55374.
City of Maple Plain
Maps available for inspection at the Maple Plain City Hall, 1620 Maple Avenue, Maple Plain, Minnesota.
Send comments to the Honorable Jack Vigoren, Mayor of the City of Maple Plain, P.O. Box 97, Maple Plain, Minnesota 55359.
City of Medicine Lake
Maps available for inspection at the Medicine Lake City Hall, 10609 South Shore Drive, Medicine Lake, Minnesota.
Send comments to Mr. Ted Hoshal, Medicine Lake Councilmember, 10609 South Shore Drive, Medicine Lake, Minnesota 55441.
City of Minneapolis
Maps available for inspection at the Minneapolis City Hall, Public Works Office, 350 South Fifth Street, Minneapolis, Minnesota.
Send comments to the Honorable R. T. Rybak, Mayor of the City of Minneapolis, 350 South Fifth Street, Room 331, Minneapolis, Minnesota 55415.
City of Minnetonka Beach
Maps available for inspection at the Minnetonka Beach City Hall, 2945 West Wood Road, Minnetonka Beach, Minnesota.
Send comments to the Honorable James Gasch, Mayor of the City of Minnetonka Beach, P.O. Box 146, Minnetonka Beach, Minnesota 55361.
City of Minnetrista
Maps available at the Minnetrista City Hall, 7701 County Road 110 West, Minnetrista, Minnesota.
Send comments to the Honorable Cheryl Fischer, Mayor of the City of Minnetrista, 7701 County Road 110 West, Minnetrista, Minnesota 55364.
City of New Hope
Maps available for inspection at the New Hope City Hall, 4401 Xylon Avenue North, New Hope, Minnesota.
Send comments to the Honorable W. Peter Enck, Mayor of the City of New Hope, 4401 Xylon Avenue North, New Hope, Minnesota 55428.
City of Plymouth
Maps available for inspection at the Plymouth City Hall, 3400 Plymouth Boulevard, Plymouth, Minnesota.
Send comments to the Honorable Judy Johnson, Mayor of the City of Plymouth, 3400 Plymouth Boulevard, Plymouth, Minnesota 55447.
City of Robbinsdale
Maps available for inspection at the Robbinsdale City Hall, 4100 Lakeview Avenue North, Robbinsdale, Minnesota.
Send comments to the Honorable Michael Holtz, Mayor of the City of Robbinsdale, 4100 Lakeview Avenue North, Robbinsdale, Minnesota 55422.
City of Wayzata
Maps available for inspection at the Wayzata City Hall, 600 Rice Street, Wayzata, Minnesota.
Send comments to the Honorable Barry Petit, Mayor of the City of Wayzata, 600 Rice Street, Wayzata, Minnesota 55391.
NEW YORK
Schoharie County
Cobleskill Creek | At the confluence with Schoharie Creek | •594 | •596 | Town of Schoharie, Town and Village of Cobleskill, Town of Richmondville, Town of Esperance.
| Approximately 0.51 mile upstream of State Route 7 | None | •927
Fly Creek | At the confluence with Schoharie Creek | •585 | •591 | Town of Esperance.
| Approximately 1,870 feet upstream of U.S. Route 20 | None | •710
Fox Creek | Approximately 0.6 mile upstream of the confluence with Schoharie Creek | •605 | •606 | Town of Schoharie, Village of Schoharie, Town of Wright.
| Approximately 1,850 feet downstream of Debritko Road | None | •653
Line Creek | At the confluence with Schoharie Creek | •643 | •642 | Town of Middleburgh, Town of Fulton.
| Approximately 1,655 feet upstream of West Middleburgh Road | None | •788
Mill Creek | At the confluence with Cobleskill Creek | •900 | •899 | Town and Village of Cobleskill.
| Approximately 0.63 mile upstream of Quarry Street | None | •1,067
Schoharie Creek | At downstream Schoharie County boundary | •531 | •541 | Town and Village of Esperance, Town of Fulton, Town and Village of Middleburgh Town, and Village of Schoharie.
| Approximately 0.45 mile upstream of Town of Fulton and Middleburgh corporate limits | None | •668
School House Creek | At confluence with Stoney Creek | •639 | •638 | Village and Town of Middleburgh.
| Approximately 0.61 mile upstream of Straub Lane | None | •792
Stoney Creek | At confluence with Schoharie Creek | •639 | •638 | Village and Town of Middleburgh.
| Approximately 1,620 feet upstream of U.S. Route 145 | None | •758
Town of Cobleskill
Maps available for inspection at the Cobleskill Town Office, 2668 State Route 7, Suite 37, Cobleskill, New York.
Send comments to Mr. Frank Reilly, Cobleskill Town Supervisor, 2668 State Route 7, Suite 37, Cobleskill, New York 12043.
Village of Cobleskill
Maps available for inspection at the Cobleskill Village Planning Department, 378 Mineral Springs Road, Suite 5, Cobleskill, New York.
Send comments to The Honorable William Gilmore, Mayor of the Village of Cobleskill, 378 Mineral Springs Road, Suite 5, Cobleskill, New York 12043.
Town of Esperance
Maps available for inspection at the Esperance Town Hall, 104 Charleston Street, Esperance, New York.
Send comments to The Honorable Earl Van Wormer, Esperance Town Supervisor, 104 Charleston Street, Esperance, New York 12066.
Village of Esperance
Maps available for inspection at the Esperance Village Hall, Church Street, Esperance, New York.
Send comments to The Honorable Lawrence Rockwell, Mayor of the Village of Esperance, P.O. Box 108, Esperance, New York 12066.
Town of Fulton
Maps available for inspection at the Fulton Town Office, 1168 Bear Ladder Road, West Fulton, New York.
Send comments to Mr. Phillip Skowfoe, Fulton Town Supervisor, 126 Chapman Road, Fultonham, New York 12071.
Town of Middleburgh
Maps available for inspection at the Middleburgh Town Hall, 146 Railroad Avenue, Middleburgh, New York.
Send comments to Mr. Dennis Richards, Middleburgh Town Supervisor, 136 Railroad Avenue, Middleburgh, New York 12122.
Village of Middleburgh
Maps available for inspection at the Middleburgh Village Municipal Building, 309 Main Street, Middleburgh, New York.
Send comments to The Honorable Gary Hayes, Mayor of the Village of Middleburgh, P.O. Box 789, Middleburgh, New York 12122.
Town of Richmondville
Maps available for inspection at the Richmondville Town Clerk's Office, 340 Main Street, Richmondville, New York.
Send comments to Mr. Frederick Guay, Richmondville Town Supervisor, 115 Popadic Road, Richmondville, New York 12149.
Town of Schoharie
Maps available for inspection at the Schoharie Town Office, 289 Main Street, Schoharie, New York.
Send comments to Mr. Martin Shrederis, Schoharie Town Supervisor, 289 Main Street, Suite 2, Schoharie, New York 12157.
Village of Schoharie
Maps available for inspection at the Schoharie Village Office, 256 Main Street, Schoharie, New York.
Send comments to The Honorable John Borst, Mayor of the Village of Schoharie, 256 Main Street, Schoharie, New York 12157-0219.
Town of Wright
Maps available for inspection at the Wright Town Hall, 105 School Street, Suite 1, Gallupville, New York.
Send comments to Ms. Susan Loden, Wright Town Supervisor, P.O. Box 130, Gallupville, New York 12073.
NORTH CAROLINA
Franklin County
Basin 10, Stream 14 | Approximately 150 feet downstream of the County boundary | None | •306 | Franklin County (Unincorporated Areas).
| Approximately 1.3 miles upstream of the County boundary | None | •379
Beaverdam Creek (Basin 11, Stream 3) | At the confluence with Moccasin Creek | None | •226 | Franklin County (Unincorporated Areas).
| Approximately 200 feet upstream of the confluence with Moccasin Creek | None | •226
Cypress Creek | At the confluence with the Tar River | None | •170 | Franklin County (Unincorporated Areas), Town of Youngsville.
| Approximately 1.2 miles upstream of the confluence with the Tar River | None | •170
Hattles Branch | At the confluence with Richland Creek | None | •314 | Franklin County (Unincorporated Areas).
| Approximately 100 feet downstream of South College Street | None | •396
Horse Creek | At the downstream County boundary | None | •342 | Franklin County (Unincorporated Areas).
| Approximately 225 feet upstream of Nottingham Court | None | •387
Little River | At the downstream County boundary | None | •325 | Franklin County (Unincorporated Areas), Town of Youngsville.
| Approximately 900 feet upstream of Martindale Drive | None | •430
Moccasin Creek | At Interstate 264 | None | •219 | Franklin County (Unincorporated Areas).
| Approximately 0.7 mile upstream of Henry Baker Road | None | •307
Moccasin Creek Tributary 3 | At the confluence with Moccasin Creek | None | •269 | Franklin County (Unincorporated Areas).
| Approximately 0.4 mile upstream of Old Halifax Road | None | •368
Press Prong Tributary 1 | At the County boundary | None | •241 | Franklin County (Unincorporated Areas).
| Approximately 0.9 mile upstream of Tant Road | None | •273
Richland Creek | At the County boundary | None | •301 | Franklin County (Unincorporated Areas), Town of Youngsville.
| Approximately 1.0 mile upstream of the confluence of Hattles Branch | None | •358
Tar River | Approximately 390 feet downstream of the confluence of Cypress Creek | None | •170 | Franklin County (Unincorporated Areas).
| Approximately 600 feet upstream of the confluence of Cypress Creek | •171 | •170
Turkey Creek | Approximately 800 feet upstream of the confluence of Turkey Creek Tributary 1 | None | •253 | Franklin County (Unincorporated Areas).
| Approximately 1.4 miles upstream of Interstate 64 | None | •320
Turkey Creek Tributary 1 | Approximately 450 feet upstream of the confluence with Turkey Creek | None | •253 | Franklin County (Unincorporated Areas).
| Approximately 0.5 mile upstream of Interstate 64 | None | •319
Wolfharbor Branch | At the confluence with Turkey Creek | None | •261 | Franklin County (Unincorporated Areas).
| Approximately 1.5 miles upstream of Carlyle Road | None | •335
Unincorporated Areas of Franklin County (Unincorporated Areas)
Maps available for inspection at the Franklin County (Unincorporated Areas) GIS Department, 215 East Nash Street, Louisburg, North Carolina.
Send comments to Dr. John R. Ball, Chairman of the Franklin County (Unincorporated Areas) Board of Commissioners, 113 Market Street, Louisburg, North Carolina 27549.
Town of Youngsville
Maps available for inspection at the Youngsville Town Hall, 118 North Cross Street, Youngsville, North Carolina.
Send comments to The Honorable Samuel K. Hardwick, Mayor of the Town of Youngsville, P.O. Box 190, 118 North Cross Street, Youngsville, North Carolina 27596.
NORTH CAROLINA
Greene County
Contentnea Creek | At the Greene/Pitt County boundary | •29 | •31 | Towns of Hookerton and Snow Hill, Greene County (Unincorporated Areas).
| Approximately 1.2 miles upstream of Hugo Road | •32 | •33 |
Appletree Swamp | At 1 Arm Edwards Road | None | •75 | Greene County (Unincorporated Areas).
| At the Greene/Wayne County boundary | None | •86
Appletree Swamp Tributary | At the confluence with Appletree Swamp | None | •83 | Greene County (Unincorporated Areas).
| Approximately 0.5 mile upstream of the confluence with Appletree Swamp | None | •88
Button Branch | At the Greene/Wayne County boundary | None | •69 | Greene County (Unincorporated Areas).
| Approximately 1,500 feet upstream of Wayne Road | None | •84
Fort Run | Approximately 0.8 mile upstream of the confluence with Contentnea Creek | None | •51 | Greene County (Unincorporated Areas).
| Approximately 0.8 mile upstream of Gurganus Road | None | •87
Lewis Branch | At the confluence with Fort Run | None | •64 | Greene County (Unincorporated Areas).
| Approximately 0.8 mile upstream of the confluence with Fort Run | None | •75
Middle Swamp | At the upstream side of U.S. Route 258 | None | •63 | Greene County (Unincorporated Areas).
| Approximately 2.0 miles upstream of U.S. Route 258 | None | •68 |
Rainbow Creek | Approximately 0.6 mile upstream of the confluence with Contentnea Creek | None | •38 | Greene County (Unincorporated Areas).
| Approximately 0.6 mile upstream of U.S. Route 258 | None | •76
Reeders Fork | At the confluence with Tyson Marsh | None | •56 | Greene County (Unincorporated Areas).
| Approximately 0.3 mile upstream of Burrfield Road | None | •86 |
Reedy Branch | At the confluence with Tyson Marsh | None | •60 | Greene County (Unincorporated Areas).
| Approximately 1.4 miles upstream of the confluence with Tyson Marsh | None | •77 |
Sandy Run | Approximately 0.5 mile upstream of Sterfarm Road | None | •44 | Greene County (Unincorporated Areas).
| Approximately 800 feet downstream of State Route 1324 | None | •74 |
Tyson Marsh | Approximately 1,600 feet upstream of Highway 58 | None | •49 | Town of Snow Hill, Greene County (Unincorporated Areas).
| Approximately 0.5 mile upstream of Gray Turnage Road | None | •78 |
Watery Branch | Approximately 0.5 mile upstream of the confluence with Contentnea Creek | None | •62 | Greene County (Unincorporated Areas).
| At the Greene/Wayne County boundary | None | •74 |
Wheat Swamp | Approximately 0.5 mile upstream of the confluence with Contentnea Creek | None | •36 | Greene County (Unincorporated Areas).
| Approximately 1.2 miles upstream of Sugg Road | None | •77 |
Wheat Swamp Tributary | At the confluence with Wheat Swamp | None | •40 | Greene County (Unincorporated Areas).
| At the Greene/Lenoir County boundary | None | •40 |
Town of Hookerton
Maps available for inspection at the Hookerton Town Hall, 227 East Main Street, Hookerton, North Carolina.
Send comments to The Honorable Lewis K. Garris, Mayor of the Town of Hookerton, P.O. Box 296, Hookerton, North Carolina 28538.
Town of Snow Hill
Maps available for inspection at the Snow Hill Town Hall, 201 North Greene Street, Snow Hill, North Carolina.
Send comments to The Honorable Donald Davis, Mayor of the Town of Snow Hill, 201 North Greene Street, Snow Hill, North Carolina 28580.
Unincorporated Areas of Greene County
Maps available for inspection at the Greene County Inspections Office, 229 Kingold Boulevard, Snow Hill, North Carolina.
Send comments to Mr. E. Lee Worsley, Jr., Greene County Manager, 229 Kingold Boulevard, Suite D, Snow Hill, North Carolina 28580.
NORTH CAROLINA
Jones County
Crooked Run | At the confluence with Trent River | None | •24 | Township of Trenton, Jones County (Unincorporated Areas).
| Approximately 2.8 miles upstream of Francks Field Road | None | •45 |
Trent River | Approximately 2.8 miles downstream of the confluence of Mill Creek | •8 | •9 | Town of Pollockville, Township of Trenton, Jones County (Unincorporated Areas).
| At the Jones/Lenoir County boundary | None | •63 |
Ash Branch | At the confluence with Vine Swamp | None | •56 | Jones County (Unincorporated Areas).
| Approximately 0.5 mile upstream of State Highway 58 | None | •61 |
Beaver Creek | At the confluence with Trent River | None | •29 | Jones County (Unincorporated Areas).
| Just downstream of Copeland Farm Road | None | •50 |
Beaverdam Branch 2 | At the confluence with Mill Run | None | •16 | Jones County (Unincorporated Areas).
| Approximately 0.5 mile upstream of Davis Field Road | None | •30 |
Beaverdam Creek 3 | At the confluence with Trent River | None | •19 | Jones County (Unincorporated Areas).
| Approximately 2.8 miles upstream of Ten Mile Fork Road | None | •42 |
Black Swamp | At the confluence with Trent River | None | •49 | Jones County (Unincorporated Areas).
| Approximately 1.2 miles upstream of Foley Branch Lane | None | •58 |
Chinquapin Branch | At the confluence with Trent River | None | •30 | Jones County (Unincorporated Areas).
| Approximately 3.2 miles upstream of Chinquapin Chapel Road | None | •39 |
Island Branch Swamp | At the confluence with Resolution Branch | None | •27 | Jones County (Unincorporated Areas).
| Approximately 0.7 mile upstream of Henderson Road | None | •30 |
Island Creek | Approximately 0.3 mile downstream of the confluence of Long Branch | None | •8 | Jones County (Unincorporated Areas).
| Approximately 1.2 mile upstream of Island Creek Road | None | •20 |
Joshua Creek | At the confluence with Trent River | None | •58 | Jones County (Unincorporated Areas).
| At the Jones/Lenoir County boundary | None | •64 |
Jumping Creek | At the confluence with Trent River | None | •20 | Jones County (Unincorporated Areas).
| Approximately 1.3 miles upstream of Ten Mile Fork Road | None | •32 |
Little Chinquapin Branch | At the confluence with Trent River | None | •36 | Jones County (Unincorporated Areas).
| Approximately 0.6 mile upstream of Pleasant Hill Road | None | •49 |
Little Hall Creek | At the confluence with Trent River | None | •15 | Jones County (Unincorporated Areas).
| Approximately 1.7 miles upstream of State Highway 58 | None | •28 |
Long Branch | At the confluence with Trent River | None | •18 | Jones County (Unincorporated Areas).
| Approximately 500 feet upstream of Ben Banks Road | None | •34 |
Mill Branch | At the confluence with Trent River | None | •40 | Jones County (Unincorporated Areas).
| Approximately 1.2 miles upstream of the confluence of Trent River | None | •44 |
Holston Creek | At the confluence with White Oak River | None | •10 | Jones County (Unincorporated Areas).
| Approximately 2.6 miles upstream of State Highway 58 | None | •23 |
Cypress Creek | At the confluence with Trent River | None | •43 | Jones County (Unincorporated Areas).
| Approximately 2.9 miles upstream of Old Comfort Highway | None | •54 |
Deep Bottom Branch | At the confluence with Beaver Creek | None | •29 | Jones County (Unincorporated Areas).
| Approximately 1.6 miles upstream of Wyse Fork Road | None | •54 |
Flat Swamp | At the confluence with Beaver Creek | None | •44 | Jones County (Unincorporated Areas).
| Approximately 0.6 mile upstream of the confluence of Flat Swamp Tributary 1 | None | •50 |
Flat Swamp Tributary | At the confluence with Flat Swamp | None | •49 | Jones County (Unincorporated Areas).
| Approximately 1,300 feet upstream of the confluence with Flat Swamp | None | •49 |
Goshen Branch | At the confluence with Trent River | •8 | •14 | Jones County (Unincorporated Areas).
| Approximately 475 feet upstream of Bell Loop Road | None | •23 |
Grape Branch | At the confluence with Tuckahoe Swamp | None | •62 | Jones County (Unincorporated Areas).
| Approximately 0.9 mile upstream of the confluence of Grape Branch Tributary | None | •73 |
Grape Branch Tributary 1 | At the confluence with Grape Branch | None | •64 | Jones County (Unincorporated Areas).
| Approximately 1,300 feet upstream of the confluence with Grape Branch | None | •67 |
Heath Mill Run | At the confluence with Beaver Creek | None | •31 | Jones County (Unincorporated Areas).
| Approximately 1.6 miles upstream of Wyse Fork Road | None | •51 |
Mill Creek | At the confluence with Trent River | •8 | •13 | Township of Pollockville, Jones County (Unincorporated Areas).
| Approximately 2.3 miles upstream of Bender Road | None | •37 |
Mill Creek Tributary 1 | At the confluence with Mill Creek | None | •13 | Jones County (Unincorporated Areas).
| Approximately 0.5 mile upstream of the confluence of Tributary to Mill Creek Tributary 1 | None | •24 |
Mill Run | At the confluence with Trent River | None | •16 | Jones County (Unincorporated Areas).
| Approximately 1.4 miles upstream of the confluence of Beaverdam Branch 2 | None | •28 |
Musselshell Creek | At the confluence with Trent River | None | •26 | Jones County (Unincorporated Areas).
| Approximately 1.0 mile upstream of the confluence of Musselshell Creek Tributary 2 | None | •43 |
Pocoson Branch | At the confluence with Trent River | None | •33 | Jones County (Unincorporated Areas).
| Approximately 1.2 miles upstream of Highway 41 | None | •50 |
Poplar Branch | At the confluence with Trent River | None | •33 | Jones County (Unincorporated Areas).
| Approximately 1.0 mile upstream of State Route 41 | None | •47 |
Raccoon Creek | Approximately 0.59 mile upstream of the confluence with Trent River | None | •8 | Jones County (Unincorporated Areas).
| Approximately 650 feet downstream of Island Creek Road | None | •21 |
Rattlesnake Branch | At the confluence with Beaver Creek | None | •43 | Jones County (Unincorporated Areas).
| Approximately 0.4 mile upstream of Moore Road | None | •50 |
Reedy Branch 1 | At the confluence with Trent River | None | •48 | Jones County (Unincorporated Areas).
| Approximately 1.3 miles upstream of State Route 41 | None | •58 |
Resolution Branch | At the confluence with Trent River | None | •27 | Jones County (Unincorporated Areas).
| Approximately 0.8 mile upstream of Wyse Fork Road | None | •45 |
Hunters Creek | At the confluence with White Oak River | None | •9 | Jones County (Unincorporated Areas).
| Approximately 1.3 miles upstream of the confluence of South Canal | None | •39 |
Tributary to Mill Creek Tributary 1 | At the confluence with Mill Creek Tributary 1 | None | •18 | Jones County (Unincorporated Areas).
| Approximately 0.8 mile upstream of the confluence with Mill Creek Tributary 1 | None | •27 |
Tuckahoe Creek | At the confluence with Trent River | None | •51 | Jones County (Unincorporated Areas).
| Approximately 1,200 feet upstream of Lee Mills Road | None | •59 |
Tuckahoe Swamp | At the confluence of Tuckahoe Creek | None | •57 | Jones County (Unincorporated Areas).
| At the Jones/Lenoir County boundary | None | •81 |
Vine Swamp | At the confluence with Beaver Creek | None | •49 | Jones County (Unincorporated Areas).
| At the Jones/Lenoir County boundary | None | •56 |
Black Swamp Creek | At the confluence with White Oak River | None | •11 | Jones County (Unincorporated Areas).
| Approximately 0.9 mile upstream of Catfish Lake Road | None | •37 |
Chinkapin Branch | At the confluence with White Oak River | None | •38 | Jones County (Unincorporated Areas).
| Approximately 0.7 mile upstream of the confluence with White Oak River | None | •38 |
Tracey Swamp | At downstream limit of County boundary | None | •43 | Jones County (Unincorporated Areas).
| Approximately 400 feet upstream of Burkett Road | None | •54 |
Tracey Swamp Tributary | At the confluence with Tracey Swamp | None | •47 | Jones County (Unincorporated Areas).
| Approximately 1.1 miles upstream with the confluence of Tracey Swamp | None | •53 |
White Oak River | At the confluence of Hunters Creek | None | •9 | Jones County (Unincorporated Areas).
| Approximately 2.8 miles upstream of the confluence of Chinkapin Branch | None | •50 |
White Oak River Tributary 1 | At the confluence with White Oak River | None | •15 | Town of Maysville, Jones County (Unincorporated Areas).
| Approximately 0.4 mile upstream of Eighth Street/State Highway 58 | None | •36 |
White Oak River Tributary 2 | At the confluence with White Oak River Tributary 1 | None | •22 | Town of Maysville, Jones County (Unincorporated Areas).
| Approximately 0.6 mile upstream of Eighth Street/State Highway 58 | None | •35 |
Town of Maysville
Maps available for inspection at the Town of Maysville Public Works Department, 404 Main Street, Maysville, North Carolina.
Send comments to The Honorable James Harper, Mayor of the Town of Maysville, P.O. Box 265, Maysville, North Carolina 28555.
Town of Pollocksville
Maps available for inspection at the Pollocksville Town Hall, 215 Foy Street, Pollocksville, North Carolina.
Send comments to The Honorable James Bender, Mayor of the Town of Pollocksville, P.O. Box 97, Pollocksville, North Carolina 28573.
Township of Trenton
Maps available for inspection at the Trenton Town Hall, 119 Jones Street, Trenton, North Carolina.
Send comments to The Honorable Sylvia Willis, Mayor of the Town of Trenton, P.O. Box 397, Maysville, North Carolina 28585.
Unincorporated Areas of Jones County
Maps available for inspection at the Jones County Building and Inspections Department, 101 Market Street, Trenton, North Carolina.
Send comments to Mr. Larry Meadows, Jones County Manager, P.O. Box 340, Trenton, North Carolina 28585.
NORTH CAROLINA
Nash County
Beech Branch | At the upstream side of the railroad | None | •96 | Nash County (Unincorporated Areas), City of Rocky Mount.
| Approximately 250 feet downstream of Red Oak Battleboro Road | None | •111 |
Compass Branch Creek | At the upstream side of the railroad | •87 | •85 | Nash County (Unincorporated Areas), City of Rocky Mount.
| Approximately 350 feet upstream of Red Oak Battleboro Road | None | •139 |
Goose Branch | At the confluence with Tar River | •84 | •85 | City of Rocky Mount.
| Approximately 250 feet downstream of Country Club Road | •95 | •97 |
Hornbeam Branch | At the upstream side of the railroad | •82 | •85 | City of Rocky Mount.
| Approximately 450 feet upstream of Peele Road | None | •104 |
Maple Creek | At the confluence with Tar River | •99 | •101 | Nash County (Unincorporated Areas), City of Rocky Mount.
| Approximately 0.7 mile downstream of Bethlehem Road | •106 | •107 |
Stony Creek | At the confluence with Tar River | •94 | •97 | Nash County (Unincorporated Areas), City of Rocky Mount, Town of Nashville.
| At the confluence with Big Peachtree Creek | None | •182 |
Tar River | At the downstream side of Leggett Road | •73 | •71 | Nash County (Unincorporated Areas), City of Rocky Mount.
| At the Franklin County boundary | •168 | •170 |
Big Peachtree Creek | At the confluence with Stony Creek | None | •182 | Nash County (Unincorporated Areas).
| At the Nash-Franklin County boundary | None | •204 |
Fishing Creek | Approximately 50 feet downstream of Ward Road | None | •129 | Nash County (Unincorporated Areas).
| At the Nash-Warren County boundary | None | •165 |
Grape Branch | At the confluence with Tar River | •103 | •107 | Nash County (Unincorporated Areas), City of Rocky Mount.
| Approximately 1,200 feet upstream of Redman Road | None | •135 |
Jacobs Branch | Approximately 400 feet upstream of the confluence with Tar River | None | •135 | Nash County (Unincorporated Areas).
| Approximately 1.0 mile upstream of Gandy Road | None | •152
Big Basket Creek | At the confluence with Stony Creek | •122 | •127 | Nash County (Unincorporated Areas), Town of Red Oak.
| Approximately 0.4 mile upstream of Taylors Store Road | None | •156
Polecat Branch | Approximately 550 feet upstream of the confluence with Maple Creek | None | •111 | Nash County (Unincorporated Areas).
| Approximately 0.4 mile upstream of the confluence of Unnamed Tributary to Polecat Branch | None | •120
Unnamed Tributary to Polecat Branch | At the confluence with Polecat Branch | None | •115 | Nash County (Unincorporated Areas).
| Approximately 250 feet downstream of Allison Lane | None | •140
Red Bird Creek | At the confluence with Sandy Creek | None | •172 | Nash County (Unincorporated Areas).
| At the Nash-Franklin County boundary | None | •194
Sandy Creek | At the confluence with Swift Creek | None | •155 | Nash County (Unincorporated Areas).
| At the Nash-Franklin County boundary | None | •183
Swift Creek | At Red Oak Road | None | •130 | Nash County (Unincorporated Areas), Town of Red Oak.
| Approximately 0.4 mile upstream of the confluence of Sandy Creek | None | •158
Stony Creek Tributary | At the confluence with Stony Creek | None | •123 | Nash County (Unincorporated Areas), Town of Dortches.
| Approximately 1.2 miles upstream of I-95 | None | •155
Little Creek | At the confluence with Moccasin Creek | None | •208 | Nash County (Unincorporated Areas).
| Approximately 300 feet upstream of the confluence with Moccasin Creek | None | •208
Press Prong | At the confluence with Turkey Creek | None | •223 | Nash County (Unincorporated Areas).
| At the confluence of Press Prong Tributary | None | •231
Press Prong Tributary 1 | At the confluence with Press Prong | None | •231 | Nash County (Unincorporated Areas).
| Approximately 1,250 feet upstream of Wiley Road | None | •241
Turkey Creek | Approximately 1.1 miles downstream of U.S. 264 | None | •168 | Nash County (Unincorporated Areas).
| Approximately 2,100 feet upstream of Rossie Jones Road | None | •255
Turkey Creek Tributary 1 | Approximately 100 feet upstream of Rossie Jones Road | None | •253 | Nash County (Unincorporated Areas).
| Approximately 840 feet upstream of Rossie Jones Road | None | •253
Moccasin Creek | Approximately 0.9 mile downstream of N.C. 231 | None | •158 | Nash County (Unincorporated Areas).
| Approximately 0.6 mile upstream of Interstate 264 | None | •220
Town of Dortches
Maps available for inspection at the Dortches Town Hall, 3057 Town Hall Road, Rocky Mount, North Carolina.
Send comments to The Honorable John F. Griffin, Mayor of the Town of Dortches, 3057 Town Hall Road, Rocky Mount, North Carolina 27804.
Nash County (Unincorporated Areas)
Maps available for inspection at the Nash County Planning Department, 120 West Washington Street, Suite 2110, Nashville, North Carolina.
Send comments to Mr. Bob Murphy, Nash County Manager, 120 West Washington Street, Suite 3072, Nashville, North Carolina 27856.
Town of Nashville
Maps available for inspection at the Nashville Town Hall, 200 West Washington Street, Nashville, North Carolina.
Send comments to The Honorable Warren Evans, Mayor of the Town of Nashville, P.O. Box 987, Nashville, North Carolina 27856.
Town of Red Oak
Maps available for inspection at the Red Oak Town Hall, 8406 Red Oak Boulevard, Nashville, North Carolina.
Send comments to The Honorable Al Wester, Mayor of the Town of Red Oak, P.O. Box A, Red Oak, North Carolina 27868.
City of Rocky Mount
Maps available for inspection at the City of Rocky Mount Planning Department, One Government Plaza, Rocky Mount, North Carolina.
Send comments to Mr. Stephen W. Raper, Rocky Mount City Manager, P.O. Box 1180, Rocky Mount, North Carolina 27802.
NORTH CAROLINA
Pitt County
Contentnea Creek | At the confluence with Neuse River | •19 | •24 | Town of Grifton, Pitt County (Unincorporated Areas).
| At the confluence of Little Contentnea Creek | •29 | •31
Fork Swamp | At the confluence with Swift Creek | None | •34 | City of Greenville, Town of Winterville, Pitt County (Unincorporated Areas).
| Approximately 1,770 feet upstream of Fire Tower Road | None | •59
Fork Swamp Tributary 1 | At the confluence with Fork Swamp | None | •52 | City of Greenville, Town of Wintervile, Pitt County (Unincorporated Areas).
| Approximately 0.7 mile upstream of Old Tar Road | None | •61
Fork Swamp Tributary 2 | At the confluence with Fork Swamp | None | •53 | City of Greenville, Pitt County (Unincorporated Areas).
| Approximately 0.8 mile upstream of the confluence with Fork Swamp | None | •58
Back Swamp | At the confluence with Swift Creek | None | •40 | Town of Grifton, Town of Ayden, Pitt County (Unincorporated Areas).
| Approximately 1,600 feet upstream of Hanrahan Road | None | •63
Buckleberry Canal | Approximately 0.5 mile upstream of Neuse River | None | •23 | Pitt County (Unincorporated Areas).
| Approximately 1.0 mile upstream of Stokestown-St. Johns Road | None | •27
Clayroot Swamp | At the confluence with Swift Creek | None | •19 | Pitt County (Unincorporated Areas).
| Approximately 1,300 feet upstream of Voa Site B Road | None | •42
Clayroot Swamp Tributary 1 | At the confluence with Clayroot Swamp | None | •34 | Pitt County (Unincorporated Areas).
| Approximately 0.5 mile upstream of Stokestown-St. Johns Road | None | •46
Creeping Swamp | At the confluence with Clayroot Swamp | None | •21 | Pitt County (Unincorporated Areas).
| Approximately 0.9 mile upstream of Cayton Road | None | •47
Gum Swamp | At the confluence with Swift Creek | None | •56 | City of Greenville, Pitt County (Unincorporated Areas).
| Approximately 1.1 miles upstream of the confluence with Swift Creek | None | •63
Horse Swamp | At the confluence with Swift Creek | None | •49 | Pitt County (Unincorporated Areas).
| Approximately 1,375 feet upstream of Jolly Road | •171 | •52
Indian Well Swamp | At the confluence with Clayroot Swamp | None | •31 | Pitt County (Unincorporated Areas).
| Approximately 0.4 mile upstream of Grover Hardee Road | None | •38
Indian Well Swamp Tributary | At the confluence with Indian Well Swamp | None | •37 | Pitt County (Unincorporated Areas)
| Approximately 800 feet upstream of Stanley Road | None | •42
Jacob Branch | Approximately 0.1 mile downstream of Stantonsburg Road | •63 | •64 | Pitt County (Unincorporated Areas).
| Approximately 0.4 mile upstream of Hog Market Road | None | •83
Langs Mill Run | Approximately 125 feet upstream of Stantonsburg Road | •63 | •64 | Town of Fountain, Town of Farmville, Pitt County (Unincorporated Areas).
| At County boundary | None | •95
Little Contentnea Creek | At the confluence of Contentnea Creek | •29 | •31 | Pitt County (Unincorporated Areas).
| Approximately 500 feet upstream of Highway 264 | None | •73
Little Contentnea Creek Tributary 1 | Approximately 0.5 mile upstream of the confluence with Little Contentnea Creek | None | •33 | Pitt County (Unincorporated Areas).
| Approximately 1,275 feet upstream of North Carolina State Route 102 | None | •42
Little Contentnea Creek Tributary 2 | At the confluence with Little Contentnea Creek | None | •50 | Pitt County (Unincorporated Areas).
| Approximately 0.6 mile upstream of Nash Joyner Road | None | •68
Little Contentnea Creek Tributary 3 | At the confluence with Little Contentnea Creek Tributary 2 | None | •61 | Pitt County (Unincorporated Areas).
| Approximately 200 feet downstream of Bell Arthur Road | None | •68
Middle Swamp Creek | Approximately 0.5 mile downstream of U.S. Highway 258 | None | •59 | Town of Farmville, Pitt County (Unincorporated Areas).
| Approximately 175 feet upstream of U.S. 264 Alternate | None | •76
Neuse River | Approximately 1,500 feet southwest of Cannon Price Road along the Pitt/Craven County boundary | None | •22 | Pitt County (Unincorporated Areas).
| At the confluence with Contentnea Creek | None | •24
Swift Creek | At the confluence of Clayroot Swamp | None | •19 | City of Greenville, Towns of Winterville and Ayden, Pitt County (Unincorporated Areas).
| Approximately 0.4 mile upstream of Davenport Farm Road | None | •59
Swift Creek Tributary 1 | At the confluence with Swift Creek | None | •47 | Town of Ayden, Pitt County (Unincorporated Areas).
| Approximately 525 feet upstream of Jolly Road | None | •56
Swift Creek Tributary 2 | At the confluence with Swift Creek | None | •53 | Town of Winterville, Pitt County (Unincorporated Areas).
| Approximately 0.6 mile upstream of Red Forbes Road | None | •61
Thorofare Swamp | At the confluence with Clayroot Swamp | None | •37 | Pitt County (Unincorporated Areas).
| Approximately 1.3 miles upstream of confluence with Clayroot Swamp | None | •41
Tributary to Little Contentnea Creek Tributary 1 | At confluence with Little Contentnea Creek Tributary 1 | None | •33 | Pitt County (Unincorporated Areas).
| Approximately 0.5 mile upstream of the confluence with Little Contentnea Creek Tributary 1 | None | •39
Ward Run | At the confluence with Little Contentnea Creek | None | •81 | Pitt County (Unincorporated Areas).
| At County boundary | None | •92
Pinelog Branch | At the confluence with Little Contentnea Creek | None | •52 | Pitt County (Unincorporated Areas).
| At the downstream side of Railroad | None | •52
Town of Ayden
Maps available for inspection at the Ayden Town Planning Department, 4061 East Avenue, Ayden, North Carolina.
Send comments to The Honorable Michael House, Mayor of the Town of Ayden, P.O. Box 219, Ayden, North Carolina 28513.
Town of Farmville
Maps available for inspection at the Farmville Town Hall, 200 North Main Street, Farmville, North Carolina.
Send comments to Mr. Richard Hicks, Farmville Town Manager, P.O. Box 86, Farmville, North Carolina 27828.
Town of Fountain
Maps available for inspection at the Fountain Town Hall, 6777 West Wilson Street, Fountain, North Carolina.
Send comments to The Honorable Shirley Mitchell, Mayor of the Town of Fountain, P.O. Box 134, Fountain, North Carolina 27829.
City of Greenville
Maps available for inspection at the Greenville Division of Public Works, 1500 Beatty Street, Greenville, North Carolina.
Send comments to Mr. Marvin Davis, Greenville City Manager, P.O. Box 7207, Greenville, North Carolina 27835.
Town of Grifton
Maps available for inspection at the Grifton Town Hall, 528 Queen Street Grifton, North Carolina.
Send comments to The Honorable Tim Bright, Mayor of the Town of Grifton, P.O. Box 579, Grifton, North Carolina 28530.
Pitt County Unincorporated Areas
Maps available for inspection at the Pitt County Planning Department Development Services Building, 1717 West 5th Street, Greenville, North Carolina.
Send comments to Mr. Scott Elliot, Pitt County Manager, 1717 West 5th Street, Greenville, North Carolina 27834.
Town of Winterville
Maps available for inspection at the Winterville Planning Department, 2571 Railroad Street, Winterville, North Carolina.
Send comments to The Honorable Doug Jackson, Mayor of the Town of Winterville, P.O. Box 1459, Winterville, North Carolina 28590.
OHIO
Hamilton County
Congress Run | Approximately 0.7 mile upstream of Ridgeway Avenue | None | *623 | City of Wyoming.
| Approximately 0.9 mile upstream of Ridgeway Avenue | None | *630
Duck Creek | Approximately 0.4 mile downstream of Redbank Road | *502 | *510 | Hamilton County (Unincorporated Areas), Village of Fairfax.
| Approximately 0.5 mile upstream of Railroad | None | *549
East Fork Mill Creek | At the confluence with Mill Creek | *582 | *584 | City of Sharonville.
| At the City of Sharonville corporate limits | *586 | *587
Little Miami River | Approximately 0.9 mile downstream of Railroad | None | *501 | Village of Mariemont, City of Loveland.
| Approximately 0.6 mile upstream of Railroad | *590 | *593
Mill Creek | Just upstream of the Barrier Dam | *481 | *480 | Cities of Cincinnati, Reading, Sharonville, and St. Bernard, Villages of Elmwood Place, Evendale, and Lockland.
| At the City of Sharonville corporate limits | *585 | *586
North Branch Sycamore Creek | Approximately 0.61 mile downstream of U.S. Route 22 | None | *696 | Village of Indian Hill.
| Approximately 0.6 mile downstream of U.S. Route 22 | None | *697
Polk Run/Lake Chetak Creek | Approximately 0.8 mile downstream of East Kemper Road | None | *586 | Hamilton County (Unincorporated Areas).
| Approximately 1,390 feet upstream of East Kemper Road | None | *690
Sharon Creek | At the confluence with Mill Creek | *570 | *571 | City of Evendale.
| Approximately 320 feet upstream of confluence with Mill Creek | *570 | *571
Sycamore Creek | Approximately 550 feet downstream of Railroad | None | *729 | Village of Indian Hill.
| Approximately 250 feet downstream of Carmargo Road | None | *742
West Fork Mill Creek | Approximately 1.6 miles upstream of Riddle Road | *621 | *614 | Village of Woodlawn.
| Approximately 0.9 mile upstream of Riddle Road | *595 | *594
O'Bannon Creek | At the confluence with Little Miami River | *588 | *591 | City of Loveland.
| At the Hamilton County corporate limits | *590 | *591
Hamilton County (Unincorporated Areas)
Maps available for inspection at the Hamilton County Department of Public Works, 138 East Court Street, Cincinnati, Ohio.
Send comments to Mr. David J. Krings, Hamilton County Administrator, 138 East Court Street, Room 600, Cincinnati, Ohio 45202.
City of Cincinnati
Maps available for inspection at the Cincinnati City Hall, 801 Plum Street, Cincinnati, Ohio.
Send comments to The Honorable Charlie Luken, Mayor of the City of Cincinnati, City Hall, 801 Plum Street, Cincinnati, Ohio 45202.
Village of Elmwood Place
Maps available for inspection at the Elmwood Place Village Hall, 6118 Vine Street, Elmwood Place, Ohio.
Send comments to The Honorable Jim Toles, Mayor of the Village of Elmwood Place, 6118 Vine Street, Elmwood Place, Ohio 45216-2104.
Village of Evendale
Maps available for inspection at the Evendale Village Hall, 10500 Reading Road, Evendale, Ohio.
Send comments to The Honorable Doug Lohmeier, Mayor of the Village of Evendale, 10500 Reading Road, Evendale, Ohio 45241.
Village of Fairfax
Maps available for inspection at the Fairfax Village Hall, 5903 Hawthorne Street, Fairfax, Ohio.
Send comments to The Honorable Theodore W. Shannon, Jr., Mayor of the Village of Fairfax, 5903 Hawthorne Street, Fairfax, Ohio 45227.
Village of Lockland
Maps available for inspection at the Lockland Village Hall, 101 North Cooper Avenue, Lockland, Ohio.
Send comments to Ms. Evonne Kovach, Lockland Village Administrator, 101 North Cooper Avenue, Lockland, Ohio 45215.
City of Loveland
Maps available for inspection at the Loveland Building and Zoning Department, 120 West Loveland Avenue, Loveland, Ohio.
Send comments to The Honorable Donna Lajcak, Mayor of the City of Loveland, 120 West Loveland Avenue, Loveland, Ohio 45140.
Village of Mariemont
Maps available for inspection at the Mariemont Village Hall, 6907 Wooster Pike, Mariemont, Ohio.
Send comments to The Honorable Don Policastro, Mayor of the Village of Mariemont, 6907 Wooster Pike, Mariemont, Ohio 45227.
City of Reading
Maps available for inspection at the Reading City Hall, 1000 Market Street, Reading, Ohio.
Send comments to The Honorable Earl J. Schmidt, Mayor of the City of Reading, 1000 Market Street, Reading, Ohio 45215.
City of Sharonville
Maps available for inspection at the Sharonville City Hall, 10900 Reading Road, Sharonville, Ohio.
Send comments to The Honorable Virgil Lovitt, II, Mayor of the City of Sharonville, 10900 Reading Road, Sharonville, Ohio 45241.
City of St. Bernard
Maps available for inspection at the St. Bernard City Hall, 110 Washington Avenue, St. Bernard, Ohio.
Send comments to The Honorable Barbara Siegel, Mayor of the City of St. Bernard, 110 Washington Avenue, St. Bernard, Ohio 45217.
Village of Woodlawn
Maps available for inspection at the Woodlawn Village Hall, 10141 Woodlawn Boulevard, Woodlawn, Ohio.
Send comments to The Honorable Susan Upton-Farley, Mayor of the Village of Woodlawn, 10141 Woodlawn Boulevard, Woodlawn, Ohio 45215.
Village of Wyoming
Maps available for inspection at the Wyoming City Hall, 800 Oak Avenue, Wyoming, Ohio.
Send comments to The Honorable David J. Savage, Mayor of the City of Wyoming, 800 Oak Avenue, Wyoming, Ohio 45215.
PENNSYLVANIA
Bucks County
East Branch Perkiomen Creek | Approximately 550 feet upstream of County Line Road | *277 | *278 | Township of West Rockhill, Borough of Sellersville, Borough of Perkasie, Township of East Rockhill.
| Approximately 600 feet of upstream of East Callowhill Road | *317 | *318
Pleasant Spring Creek | At the confluence with East Branch Perkiomen Creek | *309 | *311 | Borough of Perkasie.
| Approximately 240 feet upstream Dam No. 2 | *310 | *311
Township of East Rockhill
Maps available for inspection at the East Rockhill Township Building, 1622 Ridge Road, Perkasie, Pennsylvania.
Send comments to Mr. David Nyman, Chairman of the Township of East Rockhill Board of Supervisors, 1622 Ridge Road, Perkasie, Pennsylvania 18944.
Borough of Perkasie
Maps available for inspection at Perkasie Borough Hall, 620 West Chestnut Street, Perkasie, Pennsylvania.
Send comments to The Honorable J. Robert Hunsciker, Mayor of the Borough of Perkasie, P.O. Box 96, Perkasie, Pennsylvania 18944.
Borough of Sellersville
Maps available for inspection at the Sellersville Borough Hall, 140 East Church Street, Sellersville, Pennsylvania.
Send comments to The Honorable Howard W. Eckert, Jr., Mayor of the Borough of Sellersville, 140 East Church Street, Sellersville, Pennsylvania 18960.
Township of West Rockhill
Maps available for inspection at the West Rockhill Township Building, 1028 Ridge Road, West Rockhill, Pennsylvania.
Send comments to Mr. Fred Diseroad, Chairman of the Township of West Rockhill Board of Supervisors, 1028 Ridge Road, Sellersville, Pennsylvania 18960.
PENNSYLVANIA
Lycoming County
Dougherty Run | At the confluence with Lycoming Creek | *641 | *644 | Township of Lewis.
| Approximately 185 feet upstream of confluence with Lycoming Creek | *643 | *644
Grays Run | At the confluence with Lycoming Creek | *717 | *719 | Township of Lewis.
| Approximately 5 feet upstream of the abandoned railroad bridge | *718 | *719
Hoagland Run | At the confluence with Lycoming Creek | *596 | *603 | Township of Lycoming.
| Approximately 1,250 feet upstream of confluence with Lycoming Creek | *602 | *603
Little Muncy Creek | At the confluence with Muncy Creek | *514 | *512 | Township of Muncy Creek.
| Approximately 0.63 mile downstream of Laidecker Road | None | *593
Loyalsock Creek | Approximately 30 feet upstream of CONRAIL | *525 | *524 | Township of Gamble, Township of Plunketts Creek, Township of Eldred, Township of Upper Fairfield, Township of Fairfield, Borough of Montoursville, Township of Loyalsock.
| Approximately 0.56 mile upstream of Dunwoody Road | *746 | *747
Lycoming Creek | At upstream side of Memorial Avenue | *535 | *534 | Township of McIntyre, Township of Lewis, Township of McNett, Township of Hepburn, Township of Lycoming, Township of Old Lycoming, Township of Loyalsock, City of Williamsport.
| Approximately 100 feet downstream of County boundary | *921 | *922
Mill Creek No. 1 | At the confluence with Lycoming Creek | *574 | *576 | Township of Hepburn.
| Approximately 1,100 feet upstream of confluence with Lycoming Creek | *575 | *576
Mill Creek No. 2 | At the confluence with Loyalsock Creek | *542 | *540 | Township of Fairfield.
| Approximately 150 feet upstream of State Route 87 | *544 | *543
Mosquito Creek | Approximately 25 feet downstream of Edgewood Avenue | None | *568 | Borough of Duboistown.
| Approximately 300 feet upstream of Edgewood Avenue | None | *574
Muncy Creek | At the confluence with West Branch Susquehanna River | *504 | *505 | Township of Shrewsbury, Borough of Picture Rocks, Township of Penn, Township of Wolf, Borough of Hughesville, Township of Muncy Creek.
| Approximately 1.6 miles upstream of Boston Road | *681 | *680
Rock Run | At the confluence with Lycoming Creek | *844 | *849 | Township of McIntyre.
| Approximately 600 feet upstream of the confluence with Lycoming Creek | *848 | *849
Shoemaker Run | At the confluence with Lycoming Creek | *737 | *740 | Township of Lewis.
| At Bodines Road | *739 | *740
Stroehmann Overland Flow | At the confluence with Lycoming Creek | *566 | *568 | Township of Lycoming, Township of Old Lycoming.
| Approximately 325 feet upstream of Pleasant Hill Road | *580 | *583
Sugar Run | At the confluence with Muncy Creek | *546 | *542 | Township of Wolf.
| Approximately 125 feet downstream of confluence of Gregs Run | *558 | *559
Trout Run | At the confluence with Lycoming Creek | *672 | *674 | Township of Lewis.
| Approximately 425 feet downstream of State Route 14 | *673 | *674
Wallis Run | At the confluence with Loyalsock Creek | *638 | *635 | Township of Gamble.
| Approximately 650 feet upstream of Wallis Run Road/Legislative Route 41050 | *638 | *639
Wolf Run No. 2 | At the confluence with Lycoming Creek | *658 | *657 | Township of Lewis.
| Approximately 15 feet downstream of abandoned railroad bridge | *664 | *663
Wolf Run No. 1 | Approximately 1,710 feet upstream of John Brady Drive | None | *505 | Township of Muncy.
| Approximately 1,760 feet upstream of John Brady Drive | None | *505
Wallis Run | Approximately 3.3 miles upstream of Wallis Run Road | None | *896 | Township of Cascade.
| Approximately 3.46 miles upstream of Wallis Run Road | None | *910
Little Muncy Creek | Approximately 0.86 mile upstream of Tome Road | None | *705 | Township of Franklin.
| Approximately 1.1 miles upstream of Tome Road | None | *712
Pine Creek | Approximately 1.66 miles upstream of confluence with West Branch Susquehanna River | *555 | *554 | Townships of Porter, Cummings, and Watson.
| Approximately 1,950 feet upstream of State Route 44 | *627 | *628
Nichols Run | At the confluence with Pine Creek | *556 | *555 | Township of Porter, Borough of Jersey Shore.
| Approximately 1,510 feet upstream of Algonquin Trail | *556 | *557
Little Pine Creek | At the confluence with Pine Creek | *618 | *622 | Township of Cummings.
| Approximately 2,450 feet upstream of confluence with Pine Creek | *621 | *622
Township of Cascade
Maps available for inspection at the Cascade Township Office, 33 Kelly Road, Trout Run, Pennsylvania.
Send comments to Mr. James Brown, Chairman of the Township of Cascade Board of Supervisors, 33 Kelly Road, Trout Run, Pennsylvania 17771.
Township of Cummings
Maps available for inspection at the Cummings Township Office, 10978 North Route 44 Highway, Waterville, Pennsylvania.
Send comments to Mr. W.E. Toner Hollick, Chairman of the Township of Cummings Board of Supervisors, P.O. Box 117, Waterville, Pennsylvania 17776.
Borough of Duboistown
Maps available for inspection at the Duboistown Borough Office, 2651 Euclid Avenue, Duboistown, Pennsylvania.
Send comments to The Honorable Louis Plankenhorn, Mayor of the Borough of Duboistown, 2651 Euclid Avenue, Duboistown, Pennsylvania 17702.
Township of Eldred
Maps available for inspection at the Eldred Township Fire Department, 5556 Warrensville Road, Montoursville, Pennsylvania.
Send comments to Mr. John Harvey, Chairman of the Township of Eldred Board of Supervisors, P.O. Box 419, Montoursville, Pennsylvania 17754-0419.
Township of Fairfield
Maps available for inspection at the Fairfield Township Office, 238 Fairfield Church Road, Montoursville, Pennsylvania.
Send comments to Mr. Robert Wein, Chairman of the Township of Fairfield Board of Supervisors, 141 Signal Hill Road, Montoursville, Pennsylvania 17754.
Township of Franklin
Maps available for inspection at the Franklin Township Office, 61 School Lane, Lairdsville, Pennsylvania.
Send comments to Mr. Terry Fenstermaker, Chairman of the Township of Franklin Board of Supervisors, P.O. Box 85, Lairdsville, Pennsylvania 17742.
Township of Gamble
Maps available for inspection at the Gamble Township Office, 7670 Wallis Run Road, Trout Run, Pennsylvania.
Send comments to Mr. Joseph Reighard, Chairman of the Township of Gamble Board of Supervisors, 7670 Wallis Run Road, Trout Run, Pennsylvania 17771.
Township of Hepburn
Maps available for inspection at the Hepburn Township Office, 615 Route 973 East, Williamsport, Pennsylvania.
Send comments to Mr. Randy Lepley, Chairman of the Township of Hepburn Board of Supervisors, 4350 Bloomingrove Road, Williamsport, Pennsylvania 17701.
Borough of Hughesville
Maps available for inspection at the Hughesville Borough Office, 147 South Fifth Street, Hughesville, Pennsylvania.
Send comments to The Honorable William Edner, Mayor of the Borough of Hughesville, P.O. Box E, Hughesville, Pennsylvania 17737.
Borough of Jersey Shore
Maps available for inspection at the Jersey Shore Borough Office, 232 Smith Street, Jersey Shore, Pennsylvania.
Send comments to Mr. Thomas Gordon, Borough of Jersey Shore Council President, P.O. Box 526, Jersey Shore, Pennsylvania 17740.
Township of Lewis
Maps available for inspection at the Lewis Township Office, 69 Main Street, Trout Run, Pennsylvania.
Send comments to Mr. David P. Swift, Chairman of the Township of Lewis Board of Supervisors, 533 Upper Powys Road, Cogan Station, Pennsylvania 17728.
Township of Loyalsock
Maps available for inspection at the Loyalsock Township Building, 2501 East Third Street, Williamsport, Pennsylvania.
Send comments to Mr. Richard C. Haas, Chairman of the Township of Loyalsock Board of Supervisors, 2501 East Third Street, Williamsport, Pennsylvania 17701.
Township of Lycoming
Maps available for inspection at the Lycoming Township Office, 328 Dauber Road, Cogan Station, Pennsylvania.
Send comments to Mr. Robert Wagner, Chairman of the Township of Lycoming Board of Supervisors, 328 Dauber Road, Cogan Station, Pennsylvania 17728.
Township of McIntyre
Maps available for inspection at the McIntyre Township Office, 47 Thompson Street, Roaring Branch, Pennsylvania.
Send comments to Mr. Albert Boyer, Chairman of the Township of McIntyre Board of Supervisors, 12286 Route 14 Highway, Roaring Branch, Pennsylvania 17765.
Township of McNett
Maps available for inspection at the McNett Township Office, 385 Yorktown Road, Roaring Branch, Pennsylvania.
Send comments to Mr. Willard Kuser, Chairman of the Township of McNett Board of Supervisors, 255 Bridge Street, Roaring Branch, Pennsylvania 17765.
Borough of Montoursville
Maps available for inspection at the Montoursville Borough Office, 617 North Loyalsock Avenue, Montoursville, Pennsylvania.
Send comments to The Honorable John Dorin, Mayor of the Borough of Montoursville, 617 North Loyalsock Avenue, Montoursville, Pennsylvania 17754.
Township of Muncy
Maps available for inspection at the Muncy Township Office, 1922 Pond Road, Pennsdale, Pennsylvania.
Send comments to Mr. Paul O. Wentzler, Chairman of the Township of Muncy Board of Supervisors, 1922 Pond Road, Pennsdale, Pennsylvania 17756.
Township of Muncy Creek
Maps available for inspection at the Muncy Creek Township Office, 575 Route 442 Highway, Muncy, Pennsylvania.
Send comments to Mr. Richard Bitler, Chairman of the Township of Muncy Creek Board of Supervisors, 575 Route 442 Highway, Muncy, Pennsylvania 17756.
Township of Old Lycoming
Maps available for inspection at the Old Lycoming Township Office, 1951 Green Avenue, Williamsport, Pennsylvania.
Send comments to Mr. Robert Markle, Chairman of the Township of Old Lycoming Board of Supervisors, 1951 Green Avenue, Williamsport, Pennsylvania 17701.
Township of Penn
Maps available for inspection at the Penn Township Office, 4600 Beaver Lake Road, Hughesville, Pennsylvania.
Send comments to Mr. Kenneth Stackhouse, Chairman of the Township of Penn Board of Supervisors, 4600 Beaver Lake Road, Hughesville, Pennsylvania 17737.
Borough of Picture Rocks
Maps available for inspection at the Picture Rocks Borough Office, 113 Main Street, Picture Rocks, Pennsylvania.
Send comments to The Honorable David L. Bender, Mayor of the Borough of Picture Rocks, 55 Main Street, Picture Rocks, Pennsylvania 17762.
Township of Plunketts Creek
Maps available for inspection at the Plunketts Creek Township Office, 179 Dunwoody Road, Williamsport, Pennsylvania.
Send comments to Mr. John Anstadt, Chairman of the Township of Plunketts Creek Board of Supervisors, Williamsport, Pennsylvania 17701.
Township of Porter
Maps available for inspection at the Porter Township Office, 5 Shaffer Lane, Jersey Shore, Pennsylvania.
Send comments to Mr. William Buttorff, Chairman of the Township of Porter Board of Supervisors, 453 Oliver Street, Jersey Shore, Pennsylvania 17740.
Township of Shrewsbury
Maps available for inspection at the Shrewsbury Township Office, 143 Point Bethel Road, Hughesville, Pennsylvania.
Send comments to Ms. Cheryl A. Young, Chairman of the Township of Shrewsbury Board of Supervisors, 143 Point Bethel Road, Hughesville, Pennsylvania 17737.
Township of Upper Fairfield
Maps available for inspection at the Upper Fairfield Township Building, 4090 Route 87 Highway, Montoursville, Pennsylvania.
Send comments to Mr. Luther Lunt, Township of the Upper Fairfield Board of Supervisors, 2099 Kaiser Hollow Road, Montoursville, Pennsylvania 17754.
Township of Watson
Maps available for inspection at the Watson Township Office, 1710 Ridge Road, Jersey Shore, Pennsylvania.
Send comments to Mr. Brent A. Petrosky, Chairman of the Township of Watson Board of Supervisors, 707 Torbert Lane, Jersey Shore, Pennsylvania 17740.
City of Williamsport
Maps available for inspection at the Williamsport City Office, 245 West Fourth Street, Williamsport, Pennsylvania.
Send comments to The Honorable Michael Rafferty, Mayor of the City of Williamsport, 245 West Fourth Street, Williamsport, Pennsylvania 17701.
Township of Wolf
Maps available for inspection at the Wolf Township Office, 695 Route 405 Highway, Hughesville, Pennsylvania.
Send comments to Mr. Gene M. Zahn, Chairman of the Township of Wolf Board of Supervisors, 695 Route 405 Highway, Hughesville, Pennsylvania 17737.
WEST VIRGINIA
Jackson County
Ohio River | At the downstream county boundary | None | *586 | Jackson County (Unincorporated Areas), City of Ravenswood.
| At at the upstream county boundary | None | *598 |
Mill Creek | At confluence with Ohio River | None | *587 | Jackson County (Unincorporated Areas), City of Ripley.
| Approximately 1.84 miles upstream of entrance to Cedar Lakes | None | *602 |
Sandy Creek | At confluence with Ohio River | None | *592 | Jackson County (Unincorporated Areas), City of Ravenswood.
| Approximately 2,530 feet upstream of S.R. 13 | None | *598 |
Grasslick Creek | Approximately 2,200 feet downstream of Interstate 77 | None | *692 | Jackson County (Unincorporated Areas).
| Approximately 0.85 mile upstream of the most upstream crossing of County Route 21 | None | *830 |
Pocatalico Creek | Approximately 1,210 feet downstream of Interstate 77 | None | *642 | Jackson County (Unincorporated Areas).
| Approximately 640 feet upstream of County Route 21 | None | *746 |
Jackson County (Unincorporated Areas)
Maps available for inspection at the Jackson County Courthouse, Ripley, West Virginia.
Send comments to Mr. James Waybright, Chairman of the Jackson County Board of Commissioners, Jackson County Courthouse, Ripley, West Virginia 25271.
City of Ripley
Maps available for inspection at the Ripley City Hall, 113 South Church Street, Ripley, West Virginia.
Send comments to The Honorable Roy Guthrie, Mayor of the City of Ripley, 113 South Church Street, Ripley, West Virginia 25271.
City of Ravenswood
Maps available for inspection at the City of Ravenswood City Hall, 212 Walnut Street, Ravenswood, West Virginia.
Send comments to The Honorable William Ritchie, Mayor of the City of Ravenswood, 212 Walnut Street, Ravenswood, West Virginia 26164.

(Catalog of Federal Domestic Assistance No. 83.100, “Flood Insurance”)
Dated: May 21, 2003.
Anthony S. Lowe,
Mitigation Division Director, Emergency Preparedness and Response Directorate.

[FR Doc. 03-13641 Filed 5-30-03; 8:45 am]

BILLING CODE 6718-04-P